DEPARTMENT OF HEALTH AND HUMAN SERVICES

Health Resources and Services Administration

Agency Information Collection Activities: Submission for OMB Review; Comment Request

Periodically, the Health Resources and Services Administration (HRSA) publishes abstracts of information collection requests under review by the Office of Management and Budget (OMB), in compliance with the Paperwork Reduction Act of 1995 (44 U.S.C. Chapter 35). To request a copy of the clearance requests submitted to OMB for review, call the HRSA Reports Clearance Office on (301)-443-1129.

The following request has been submitted to the Office of Management and Budget for review under the Paperwork Reduction Act of 1995:

Proposed Project: Health Professions Student Loan (HPSL) Program and Nursing Student Loan (NSL) Program Administrative Requirements (Regulations and Policy) (OMB No. 0915-0047)—Extension

The regulations for the Health Professions Student Loan (HPSL) Program and Nursing Student Loan (NSL) Program contain a number of reporting and recordkeeping requirements for schools and loan applicants. The requirements are essential for assuring that borrowers are aware of rights and responsibilities that schools know the history and status of each loan account that schools pursue aggressive collection efforts to reduce default rates, and that they maintain adequate records for audit and assessment purposes. Schools are free to use improved information technology to manage the information required by the regulations.

The burden estimates are as follows:

Recordkeeping Requirements
Regulatory/section requirements | Number of recordkeepers | Hours per year | Total burden hours
HPSL Program:
57.206(b)(2), Documentation of Cost of Attendance | 547 | 1.17 | 640
57.208(a), Promissory Note | 547 | 1.25 | 684
57.210((b)(1)(i), Documentation of Entrance Interview | 547 | 1.25 | 684
57.210(b)(1)(ii), Documentation of Exit Interview | * 576 | 0.33 | 190
57.215(a) & (d), Program Records | * 576 | 10 | 5,760
57.215(b), Student Records | * 576 | 10 | 5,760
57.215(c), Repayment Records | *576 | 18.75 | 10,800
HPSL Subtotal | 576 |  | 24,518
NSL Program:
57.306(b)(2)(ii), Documentation of Cost of Attendance | 315 | 0.3 | 95
57.308(a), Promissory Note | 315 | 0.5 | 158
57.310(b)(1)(i), Documentation of Entrance Interview | 315 | 0.5 | 158
57.310(b)(1)(ii), Documentation of Exit Interview | * 502 | O.17 | 85
57.315(a)(1) & (a)(4), Program Records | * 502 | 5 | 2,510
57.315(a)(2), Student Records | * 502 | 1 | 502
57.315(a)(3), Repayment Records | * 502 | 2.51 | 1,255
NSL Subtotal | 502 |  | 4,763
* Includes active and closing schools. HPSL data includes active and closing Loans for Disadvantaged Students (LDS) program schools.

Reporting Requirements
Regulatory/section requirements | Number of respondents | Response per respondent | Total annual responses | Hours per response | Total hour burden
HPSL Program:
57.205(a)(2), Excess Cash | Burden included under 0915-0044
57.206(a)(2), Student Financial Aid Transcript | 4,679 | 1 | 4,679 | .25 | 1,170
57.208(c), Loan Information Disclosure | 547 | 68.73 | 37,595 | .0833 | 3,132
57.210(a)(3), Deferment Eligibility | Burden included under 0915-0044
57.210(b)(1)(i), Entrance Interview | 547 | 68.73 | 37,595 | 0.167 | 6,278
57.210(b)(1)(ii), Exit Interview | * 547 | 12 | 6,564 | 0.5 | 3,282
57.210(b)(1)(iii), Notification of Repayment | * 547 | 30.83 | 16,864 | 0.167 | 2,816
57.210(b)(1)(iv), Notification During Deferment | * 547 | 24.32 | 13,303 | 0.0833 | 1,108
57.210(b)(1)(vi), Notification of Delinquent Accounts | * 547 | 10.28 | 5,623 | 0.167 | 518
57.210(b)(1)(x), Credit Bureau Notification | * 547 | 8.03 | 4,392 | 0.6 | 2,635
57.210(b)(4)(i), Write-off of Uncollectible Loans | 20 | 1.00 | 20 | 3.0 | 60
57.211(a) Disability Cancellation | 8 | 1 | 8 | .75 | 6
57.215(a) Reports | Burden included under 0915-0044
57.215(a)(2), Administrative Hearings | 0 | 0 | 0 | 0 | 0
57.215(a)(d), Administrative Hearings | 0 | 0 | 0 | 0 | 0
HPSL Subtotal | 8,681 |  | 109,779 |  | 16,703
NSL Program:
57.305(a)(2), Excess Cash | Burden included under 0915-0044
57.306(a)(2), Student Financial Aid Transcript | 4,062 | 1 | 4,062 | 0.25 | 1,016
57.310(b)(1)(i), Entrance Interview | 315 | 23.51 | 7,406 | 0.167 | 1,237
57.310(b)(1)(ii), Exit Interview | * 502 | 3.77 | 1,892 | 0.5 | 946
57.301(b)(1)(iii), Notification of Repayment | * 502 | 6.18 | 3,102 | 0.167 | 518
57.310(b)(1)(iv), Notification During Deferment | * 502 | 0.65 | 326 | 0.083 | 27
57.310(b)(1)(vi), Notification of Delinquent Accounts | * 502 | 4.61 | 2,314 | 0.167 | 386
57.310(b)(1)(x), Credit Bureau Notification | * 502 | 8.3 | 4,167 | 0.6 | 2,500
57.310(b)(4)(i), Write-off of Uncollectible Loans | 20 | 1.0 | 20 | 3.5 | 70
57.311(a), Disability Cancellation | 7 | 1.0 | 7 | 0.8 | 5.6
57.312(a)(3), Evidence of Educational Loans | Inactive Provision
57.315(a)(1), Reports | Burden included under 0915-0044
57.315(a)(1)(ii), Administrative Hearings | 0 | 0 | 0 | 0 | 0
57.316(a)(d), Administrative Hearings | 0 | 0 | 0 | 0 | 0
NSL Subtotal | 6,914 |  | 23,296 |  | 6,706
* Includes active and closing schools.

Written comments and recommendations concerning the proposed information collection should be sent within 30 days of this notice to: John Kraemer, Human Resources and Housing Branch, Office of Management and Budget, New Executive Office Building, Room 10235, Washington, DC 20503.

Dated: August 10, 2005.
Tina M. Cheatham,
Director, Division of Policy Review and Coordination.

[FR Doc. 05-16185 Filed 8-15-05; 8:45 am]

BILLING CODE 4165-15-P